NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by November 22, 2017. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2016-020) to Laura K.O. Smith, Owner, Operator Quixote Expeditions, on December 23, 2015. The issued permit allows the permit holder to conduct waste management activities associated with the operation of the “Ocean Tramp,” a reinforced ketch rigged sailing yacht in the Antarctic Peninsula region. Activities to be conducted by Quixote include: Passenger landings, hiking, photography, wildlife viewing, and possible station visits.

A recent modification to this permit, dated November 9, 2016, permitted the permit holder to continue permitted activities, including minimization, mitigation, and monitoring of waste, for the 2016-2017 Antarctic season. The Environmental Officer reviewed the modification request and determined that the amendment was not a material change to the permit, and it will have a less than a minor or transitory impact.

Now the permit holder proposes a modification to the permit to continue the permitted activities for the 2017-2018 Antarctic season and add coastal camping activities as well as resupply of fresh food as part of Quixote's new fly/cruise operations. The maximum number of camping participants would be 12. Camping would be away from vegetated sites and >150m from wildlife concentrations or lakes, protected areas, historical sites, and scientific stations. Tents would be pitched on snow, ice, or bare smooth rock, at least 15m from the high-water line. No food, other than emergency rations, would be brought onshore and all wastes, including human waste, would be collected and returned to the ship for proper disposal. The permit holder is seeking a waste permit modification to cover any accidental releases that may result from camping and other activities.

Location: Antarctic Peninsula; For camping, possible locations include Dorian Cove, Enterprize Isand, Cuverville are/Errera Channel, Damoy Point/Dorian Bay, Danco Island, Rongé Island, Paradise Bay, Argentine Islands, Andvord Bay, Pleneau Island, Hovgaard Island, Orne Harbour, Leith Cove, Prospect Point, Portal Point.

Dates: December 1, 2017-February 6, 2021.

Nadene G. Kennedy,
Polar Coordination Specialist, Office of Polar Programs.

[FR Doc. 2017-22944 Filed 10-20-17; 8:45 am]

BILLING CODE 7555-01-P